DEPARTMENT OF STATE

[Public Notice 6722]

Waiver of Restriction on Assistance to Bolivia, Dominica, the Dominican Republic, Nicaragua, and St. Vincent and the Grenadines

Pursuant to section 7088(c)(2) of the Department of State, Foreign Operations, and Related Programs Appropriations Act, 2009 (Division H, Pub. L. 111-8) (“the Act”), and Department of State Delegation of Authority Number 245-1, I hereby determine that it is important to the national interest of the United States to waive the requirements of section 7088(c)(1) of the Act with respect to Bolivia, Dominica, the Dominican Republic, Nicaragua, and St. Vincent and the Grenadines, and I hereby waive such restriction.

This determination shall be reported to the Congress, and published in the Federal Register.

Dated: July 14, 2009.
Jacob J. Lew,
Deputy Secretary of State For Management and Resources, Department of State.

[FR Doc. E9-18844 Filed 8-5-09; 8:45 am]

BILLING CODE 4710-29-P